DEPARTMENT OF TRANSPORTATION

Federal Aviation Administration

14 CFR Part 39

[Docket No. 2000-SW-39-AD; Amendment 39-11900; AD 2000-16-52]

RIN 2120-AA64

Airworthiness Directives; Eurocopter France Model AS350B3 Helicopters

AGENCY: Federal Aviation Administration, DOT.

ACTION: Final rule; request for comments.

SUMMARY: This document publishes in the Federal Register an amendment adopting Emergency Airworthiness Directive (AD) 2000-16-52 which was sent previously to all known U.S. owners and operators of Eurocopter France (ECF) Model AS350B3 helicopters by individual letters. This AD requires visually inspecting the heat shield attachment areas on the tail rotor drive shaft forward fairing (fairing) for a crack. This AD also requires, at specified time intervals, removing the fairing and inspecting the heat shield attachment areas on the fairing for a crack. If a crack is found, this AD requires replacing the fairing with an airworthy fairing. This amendment is prompted by an in-flight loss of the fairing heat shield due to cracking in the areas where the heat shield is attached to the fairing. The actions specified by this AD are intended to prevent an in-flight loss of the heat shield, impact with tail or main rotor blades, and subsequent loss of control of the helicopter.

DATES: Effective September 29, 2000, to all persons except those persons to whom it was made immediately effective by Emergency AD 2000-16-52, issued on August 11, 2000, which contained the requirements of this amendment.

Comments for inclusion in the Rules Docket must be received on or before November 13, 2000.

ADDRESSES: Submit comments in triplicate to the Federal Aviation Administration (FAA), Office of the Regional Counsel, Southwest Region, Attention: Rules Docket No. 2000-SW-39-AD, 2601 Meacham Blvd., Room 663, Fort Worth, Texas 76137. You may also send comments electronically to the Rules Docket at the following address: 9_asw_adcomments@faa.gov.

FOR FURTHER INFORMATION CONTACT: Jim Grigg, Aviation Safety Engineer, FAA, Rotorcraft Directorate, Regulations Group, Fort Worth, Texas 76193-0111, telephone (817) 222-5490, fax (817) 222-5961.

SUPPLEMENTARY INFORMATION: On August 11, 2000, the FAA issued Emergency AD 2000-16-52 for ECF Model AS350B3 helicopters which requires visually inspecting the heat shield attachment areas on the fairing for a crack. That Emergency AD also requires, at specified time intervals, removing the fairing and inspecting the heat shield attachment areas on the fairing for a crack. If a crack is found, the Emergency AD requires replacing the fairing with an airworthy fairing. That action was prompted by an in-flight loss of the fairing heat shield due to cracking in the areas where the heat shield is attached to the fairing. This condition, if not corrected, could result in an in-flight loss of the heat shield, impact with tail or main rotor blades, and subsequent loss of control of the helicopter.

Since the unsafe condition described is likely to exist or develop on other ECF Model AS350B3 helicopters of the same type design, the FAA issued Emergency AD 2000-16-52 to prevent an in-flight loss of the heat shield, impact with tail or main rotor blades, and subsequent loss of control of the helicopter. The AD requires, before the first flight of each day, visually inspecting the heat shield attachment areas on the fairing for a crack. The AD also requires within 50 hours time-in-service (TIS) and thereafter at intervals not to exceed 50 hours TIS, removing the fairing and inspecting the heat shield attachment areas on the fairing for a crack. If a crack is found, the AD requires replacing the fairing with an airworthy fairing. The short compliance time involved is required because the previously described critical unsafe condition can adversely affect the structural integrity and controllability of the helicopter. Therefore, the actions listed previously are required before the first flight of each day, and this AD must be issued immediately.

Since it was found that immediate corrective action was required, notice and opportunity for prior public comment thereon were impracticable and contrary to the public interest, and good cause existed to make the AD effective immediately by individual letters issued on August 11, 2000 to all known U.S. owners and operators of ECF Model AS350B3 helicopters. These conditions still exist, and the AD is hereby published in the Federal Register as an amendment to section 39.13 of the Federal Aviation Regulations (14 CFR 39.13) to make it effective to all persons.

The FAA estimates that 22 helicopters of U.S. registry will be affected by this AD. It will take approximately 0.25 work hour per helicopter to inspect the fairing without removing it from the helicopter; and 2 work hours per helicopter to remove, inspect, and reinstall the fairing. The average labor rate is $60 per work hour. Required parts if the fairing needs to be replaced will cost approximately $1217 per helicopter. Based on these figures, the total cost impact of the AD on U.S. operators is estimated to be $13,530 per month, assuming 25 fairing inspections, 2 fairing removals and inspections, and no fairing replacements.

Comments Invited

Although this action is in the form of a final rule that involves requirements affecting flight safety and, thus, was not preceded by notice and an opportunity for public comment, comments are invited on this rule. Interested persons are invited to comment on this rule by submitting such written data, views, or arguments as they may desire. Communications should identify the Rules Docket number and be submitted in triplicate to the address specified under the caption ADDRESSES. All communications received on or before the closing date for comments will be considered, and this rule may be amended in light of the comments received. Factual information that supports the commenter's ideas and suggestions is extremely helpful in evaluating the effectiveness of the AD action and determining whether additional rulemaking action would be needed.

Comments are specifically invited on the overall regulatory, economic, environmental, and energy aspects of the rule that might suggest a need to modify the rule. All comments submitted will be available, both before and after the closing date for comments, in the Rules Docket for examination by interested persons. A report that summarizes each FAA-public contact concerned with the substance of this AD will be filed in the Rules Docket.

Commenters wishing the FAA to acknowledge receipt of their mailed comments submitted in response to this rule must submit a self-addressed, stamped postcard on which the following statement is made: “Comments to Docket No. 2000-SW-39-AD.” The postcard will be date stamped and returned to the commenter.

The regulations adopted herein will not have a substantial direct effect on the States, on the relationship between the national Government and the States, or on the distribution of power and responsibilities among the various levels of government. Therefore, it is determined that this final rule does not have federalism implications under Executive Order 13132.

The FAA has determined that this regulation is an emergency regulation that must be issued immediately to correct an unsafe condition in aircraft, and that it is not a “significant regulatory action” under Executive Order 12866. It has been determined further that this action involves an emergency regulation under DOT Regulatory Policies and Procedures (44 FR 11034, February 26, 1979). If it is determined that this emergency regulation otherwise would be significant under DOT Regulatory Policies and Procedures, a final regulatory evaluation will be prepared and placed in the Rules Docket. A copy of it, if filed, may be obtained from the FAA, Office of the Regional Counsel, Southwest Region, 2601 Meacham Blvd., Room 663, Fort Worth, Texas.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2000-16-52 Eurocopter France: Amendment 39-11900. Docket No. 2000-SW-39-AD.

Applicability: Model AS350B3 helicopters with tail rotor drive shaft forward fairing (fairing), part number 350A23-0032-09, installed, certificated in any category.

Note 1: This AD applies to each helicopter identified in the preceding applicability provision, regardless of whether it has been otherwise modified, altered, or repaired in the area subject to the requirements of this AD. For helicopters that have been modified, altered, or repaired so that the performance of the requirements of this AD is affected, the owner/operator must request approval for an alternative method of compliance in accordance with paragraph (c) of this AD. The request should include an assessment of the effect of the modification, alteration, or repair on the unsafe condition addressed by this AD; and if the unsafe condition has not been eliminated, the request should include specific proposed actions to address it.

Compliance: Required as indicated, unless accomplished previously.

To prevent in-flight loss of a fairing heat shield, impact with tail or main rotor blades, and subsequent loss of control of the helicopter, accomplish the following:

(a) Before the first flight of each day, visually inspect the fairing at the left and right side heat shield attachment areas (three on each side) for a crack. If a crack is found, replace the fairing with an airworthy fairing before further flight.

(b) Within 50 hours time-in-service (TIS) and thereafter at intervals not to exceed 50 hours TIS, remove the fairing and inspect the left, right, and top heat shield attachment areas (three on each side and three on top) for a crack. If a crack is found, replace the fairing with an airworthy fairing before further flight.

Note 2: Eurocopter Service Telex No. 05.00.35, undated, pertains to the subject of this AD.

(c) An alternative method of compliance or adjustment of the compliance time that provides an acceptable level of safety may be used if approved by the Manager, Regulations Group, Rotorcraft Directorate, FAA. Operators shall submit their requests through an FAA Principal Maintenance Inspector, who may concur or comment and then send it to the Manager, Regulations Group.

Note 3: Information concerning the existence of approved alternative methods of compliance with this AD, if any, may be obtained from the Regulations Group.

(d) Special flight permits will not be issued.

(e) This amendment becomes effective on September 29, 2000, to all persons except those persons to whom it was made immediately effective by Emergency AD 2000-16-52, issued August 11, 2000, which contained the requirements of this amendment.

Note 4: The subject of this AD is addressed in Direction Generale De L'Aviation Civile (France) AD T2000-340-080(A), dated July 31, 2000, and AD 2000-340-080(A), dated August 9, 2000.

Issued in Fort Worth, Texas, on September 5, 2000.
Henry A. Armstrong,
Manager, Rotorcraft Directorate, Aircraft Certification Service.

[FR Doc. 00-23584 Filed 9-13-00; 8:45 am]

BILLING CODE 4910-13-P